DEPARTMENT OF THE INTERIOR

National Park Service

[5017-7155-409]

Record of Decision for the General Management Plan for the Cumberland Gap National Historical Park, KY, TN, and VA

AGENCY: National Park Service, Interior.

ACTION: Notice of Availability of the Record of Decision for the General Management Plan Environmental Impact Statement for the Cumberland Gap National Historical Park.

SUMMARY: Pursuant to the National Environmental Policy Act of 1969, the National Park Service (NPS) announces the availability of the Record of Decision (ROD) for the General Management Plan, Cumberland Gap National Historical Park in Kentucky, Tennessee, and Virginia. On September 13, 2010, the Regional Director, Southeast Region, approved the ROD for the project.

FOR FURTHER INFORMATION CONTACT: Mark Woods, Superintendent, Cumberland Gap National Historical Park, U.S. 25E South, P.O. Box 1848, Middlesboro, KY 40965-1848; telephone 606-248-2817. Mark_Woods@nps.gov.

SUPPLEMENTARY INFORMATION: Three alternatives were evaluated in the Environmental Impact Statement. These include: Alternative A, No Action— Continue Current Management; Alternative B—Increase opportunities for visitor access by providing additional park facilities as compared to Alternative A; Alternative C—the selected alternative, provides slightly expanded visitor access to the Park while minimizing the potential for adverse effects on resources and would feature increased levels of education, outreach, and formalized partnering.

The ROD includes a statement of the decision made, synopses of other alternatives considered, the basis for the decision, a description of the environmentally preferable alternative, a finding of no impairment of Park resources and values, a listing of measures to minimize environmental harm, and an overview of public involvement in the decision-making process.

Copies of the Record of Decision may be obtained from the contact listed above or online at http://parkplanning.nps.gov/CUGA.

Authority: The authority for publishing this notice is 40 C.F.R. 1506.6.

The responsible official for this Record of Decision is the Regional Director, Southeast Region, National Park Service, 100 Alabama Street, SW., 1924 Building, Atlanta, Georgia 30303.

Dated: January 24, 2011.
Gordon Wissinger,
Acting, Regional Director, Southeast Region.

[FR Doc. 2011-2308 Filed 2-1-11; 8:45 am]

BILLING CODE 4310-NX-P